DEPARTMENT OF DEFENSE

Office of the Secretary

Defense Science Board; Notice of Federal Advisory Committee Meetings

AGENCY: Department of Defense.

ACTION: Notice of Federal Advisory Committee Meetings.

SUMMARY: The 2017 Defense Science Board (DSB) Summer Study Task Force on Nuclear Deterrence in the 21st Century's Multi-Polar, Multi-Threat Strategic Environment (“the Nuclear Deterrence Summer Study Task Force”) will meet in closed session on Tuesday, January 24, 2017, from 8:15 a.m. to 12:00 p.m. and 12:30 p.m. to 6:00 p.m. at the Virginia Tech Advanced Research Center, 900 Glebe Road, 7th Floor, Arlington, VA and Wednesday, January 25, 2017, from 8:00 a.m. to 3:00 p.m. at the Executive Conference Center, 4075 Wilson Blvd., Suite 350, Arlington, VA.

DATES: Tuesday, January 24, 2017, from 8:15 a.m. to 6:00 p.m.; and Wednesday, January 25, 2017, from 8:00 a.m. to 3:00 p.m.

ADDRESSES: Virginia Tech Advanced Research Center, 900 Glebe Road, 7th Floor, Arlington, VA (January 24, 2017); and Executive Conference Center, 4075 Wilson Blvd., Suite 350, Arlington, VA (January 25, 2017).

FOR FURTHER INFORMATION CONTACT: Ms. Debra Rose, Executive Officer, Defense Science Board, 3140 Defense Pentagon, Room 3B888A, Washington, DC 20301-3140, via email at debra.a.rose20.civ@mail.mil, or via phone at (703) 571-0084 or the Defense Science Board Designated Federal Officer (DFO) Ms. Karen D.H. Saunders, Executive Director, Defense Science Board, 3140 Defense Pentagon, Room 3B888A, Washington, DC 20301, via email at karen.d.saunders.civ@mail.mil or via phone at (703) 571-0079.

SUPPLEMENTARY INFORMATION: Due to circumstances beyond the control of the Designated Federal Officer and the Department of Defense, the 2017 Defense Science Board Summer Study Task Force on Nuclear Deterrence in the 21st Century's Multi-Polar, Multi-Threat Strategic Environment was unable to provide public notification of its meetings on January 24-25, 2017, as required by 41 CFR 102-3.150(a). Accordingly, the Advisory Committee Management Officer for the Department of Defense, pursuant to 41 CFR 102-3.150(b), waives the 15-calendar day notification requirement.

These meetings are being held under the provisions of the Federal Advisory Committee Act (FACA) of 1972 (5 U.S.C. Appendix, as amended), the Government in the Sunshine Act of 1976 (5 U.S.C. 552b, as amended), and 41 CFR 102-3.150.

The mission of the Defense Science Board is to provide independent advice and recommendations on matters relating to the Department of Defense's (DoD) scientific and technical enterprise. The objective of the Nuclear Deterrence Summer Study Task Force is to address the topic of nuclear force modernization and recapitalization, focusing on ways to reduce the affordability problem and on ways to respond to the changing strategic environment through technical, programmatic, and operational innovation. The Nuclear Deterrence Summer Study Task Force will consider the critical issues associated with the status and trends in major power threats and proliferators that could threaten the United States or its allies, to include their nuclear, advanced conventional, and cyber capabilities that might threaten the operational viability of our nuclear deterrent; make our ability to control escalation through non-nuclear means problematic; or impact the assurance of U.S. extended deterrence globally. This two-day session will focus on providing general and nuclear threat briefings, to include briefings on China, Russia, and the Democratic Republic of Korea, from the National Intelligence Council and Defense Intelligence Agency, and the International Nuclear Deterrence Efforts and Perspective from the Executive Secretary of Nuclear Weapons Council on the Future of Nuclear Deterrence; a briefing on the `Perspective of the Office of Net Assessment on the Future of Nuclear Deterrence' by the Office of Net Assessment; a DoD Policy Brief on the Nuclear Posture Review by Assistant Secretary of Defense for Nuclear and Missile Defense Policy; and a U.S. Nuclear Weapons Policy brief from Mr. Frank Miller.

In accordance with section 10(d) of the FACA and 41 CFR 102-2.155, the DoD has determined that the Nuclear Deterrence Summer Study Task Force meeting will be closed to the public. Specifically, the Under Secretary of Defense (Acquisition, Technology, and Logistics), in consultation with the DoD Office of General Counsel, has determined in writing that all sessions will be closed to the public because matters covered by 5 U.S.C. 552b(c)(1) will be considered. The determination is based on the consideration that it is expected that discussions throughout will involve classified matters of national security concern. Such classified material is so intertwined with the unclassified material and non-proprietary information that it cannot reasonably be segregated into separate discussions without defeating the effectiveness and meaning of the overall meetings. To permit the meetings to be open to the public would preclude discussion of such matters and would greatly diminish the ultimate utility of the DSB's findings or recommendations to the Secretary of Defense and to the Under Secretary of Defense for Acquisition, Technology and Logistics.

In accordance with section 10(a)(3) of the FACA and 41 CFR 102-3.105(j) and 102-3.140, interested persons may submit a written statement for consideration by the Nuclear Deterrence Summer Study Task Force at any time regarding its mission or in response to the stated agenda of a planned meeting. Individuals submitting a written statement must submit their statement to the DSB's DFO—Ms. Karen D.H. Saunders, Executive Director, Defense Science Board, 3140 Defense Pentagon, Room 3B888A, Washington, DC 20301, via email at Karen.d.saunders.civ@mail.mil or via phone at (703) 571-0079 at any point; however, if a written statement is not received at least 3 calendar days prior to the meeting, which is the subject of this notice, then it may not be provided to or considered by the Nuclear Deterrence Summer Study Task Force. The DFO will review all submissions with the Nuclear Deterrence Summer Study Task Force co-Chairs and ensure they are provided to Nuclear Deterrence Summer Study Task Force members prior to the end of the two-day meeting on January 25, 2017.

Dated: January 12, 2017.
Aaron Siegel,
Alternate OSD Federal Register Liaison Officer, Department of Defense.

[FR Doc. 2017-00981 Filed 1-17-17; 8:45 am]

BILLING CODE 5001-06-P